DEPARTMENT OF HOMELAND SECURITY

Federal Emergency Management Agency

[Docket ID FEMA-2016-0002; Internal Agency Docket No. FEMA-B-1551]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before May 12, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1551, to Luis Rodriguez, Chief, Engineering Management Branch, Federal Insurance and Mitigation Administration, FEMA, 500 C Street SW., Washington, DC 20472 (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: January 22, 2016.
Roy E. Wright,
Deputy Associate Administrator for Insurance and Mitigation, Department of Homeland Security, Federal Emergency Management Agency.

I. Watershed-based studies:

Community | Community map repository address
Middle Chattahoochee-Lake Harding Watershed
Maps Available for Inspection Online at: http://www.fema.gov/preliminaryfloodhazarddata
Carroll County, Georgia, and Incorporated Areas
City of Whitesburg | City Hall, 788 Main Street, Whitesburg, GA 30185.
Unincorporated Areas of Carroll County | Carroll County Administration Building, Community Development Office, 423 College Street, Carrollton, GA 30117.
Columbus Consolidated Government, Georgia
Columbus Consolidated Government | Department of Engineering, Storm Water Division, 420 Tenth Street, 2nd Floor, Columbus, GA 31901.
Harris County, Georgia, and Incorporated Areas
Unincorporated Areas of Harris County | Harris County Commissioners' Office, 104 North College Street, Hamilton, GA 31811.
Heard County, Georgia, and Incorporated Areas
City of Franklin | City Hall, 118 Davis Street, Franklin, GA 30217.
Unincorporated Areas of Heard County | Heard County Building and Zoning Department, 215 East Court Square, Room 19, Franklin, GA 30217.
Troup County, Georgia, and Incorporated Areas
City of LaGrange | City Hall, 200 Ridley Avenue, LaGrange, GA 30240.
City of West Point | City Hall, 730 First Avenue, West Point, GA 31833.
Unincorporated Areas of Troup County | Troup County Government Center, 100 Ridley Avenue, LaGrange, GA 30240.
Upper Ocmulgee Watershed
Maps Available for Inspection Online at: http://www.fema.gov/preliminaryfloodhazarddata Butts County, Georgia, and Incorporated Areas
City of Flovilla | Butts County Community Services Department, 625 West Third Street, Suite Three, Jackson, GA 30233.
City of Jackson | Butts County Community Services Department, 625 West Third Street, Suite Three, Jackson, GA 30233.
City of Jenkinsburg | Butts County Community Services Department, 625 West Third Street, Suite Three, Jackson, GA 30233.
Unincorporated Areas of Butts County | Butts County Community Services Department, 625 West Third Street, Suite Three, Jackson, GA 30233.
Jasper County, Georgia, and Incorporated Areas
Unincorporated Areas of Jasper County | Jasper County Courthouse, Planning and Zoning Department, 126 West Greene Street, Suite 17, Monticello, GA 31064.
Jones County, Georgia, and Incorporated Areas
City of Gray | Jones County Planning and Zoning Department, 166 Industrial Boulevard, Gray, GA 31032.
Unincorporated Areas of Jones County | Jones County Planning and Zoning Department, 166 Industrial Boulevard, Gray, GA 31032.
Macon-Bibb County, Georgia (Consolidated Government)
Macon-Bibb County (Consolidated Government) | Macon-Bibb County Engineer's Office, 780 Third Street, Macon, GA 31201.
Monroe County, Georgia, and Incorporated Areas
City of Forsyth | City Hall, 26 North Jackson Street, Forsyth, GA 31029.
Unincorporated Areas of Monroe County | Board of Commissioners' Building, 38 West Main Street, Forsyth, GA 31029.
Spalding County, Georgia, and Incorporated Areas
City of Griffin | City Hall, 100 South Hill Street, Griffin, GA 30224.
City of Orchard Hill | Orchard Hill City Hall, 2972 Macon Road, Griffin, GA 30224.
Unincorporated Areas of Spalding County | Spalding County Community Development Center, 119 East Solomon Street, Suite 203, Griffin, GA 30223.

II. Non-watershed-based studies:

Community | Community map repository address
Jackson County, Arkansas, and Incorporated Areas
Maps Available for Inspection Online at: http://www.fema.gov/preliminaryfloodhazarddata
Project: 14-06-1860S Preliminary Dates: February 3, 2010 and October 31, 2014
City of Amagon | City Hall, 209 Amagon Avenue, Amagon, AR 72005.
City of Campbell Station | Campbell Station City Hall, 5005 Keeter Circle, Tuckerman, AR 72473.
City of Diaz | City Hall, 3401 South Main Street, Diaz, AR 72043.
City of Newport | City Hall, 615 Third Street, Newport, AR 72112.
City of Swifton | City Hall, 101 Highway 67, Swifton, AR 72471.
City of Tuckerman | City Hall, 200 West Main Street, Tuckerman, AR 72473.
City of Tupelo | City Hall and Community Building, 32 Pecan Circle, Tupelo, AR 72169.
Town of Beedeville | Town Hall, 121 McFaddin Street, Beedeville, AR 72014.
Town of Grubbs | Town Hall, 420 North Main Street, Grubbs, AR 72431.
Town of Jacksonport | Town Hall, 304 Avenue Street, Jacksonport, AR 72075.
Town of Weldon | Fire Station, 1125 Highway 17 South, Weldon, AR 72112.
Unincorporated Areas of Jackson County | Jackson County Office of Emergency Management, 3405 South Main Street, Diaz, AR 72043.
Harris County, Texas, and Incorporated Areas
Maps Available for Inspection Online at: http://www.fema.gov/preliminaryfloodhazarddata
Project: 11-06-0896S Preliminary Date: July 29, 2015
City of Houston | Floodplain Management Office, 1002 Washington Avenue, 3rd Floor, Houston, TX 77002.
Unincorporated Areas of Harris County | Harris County Permit Office, 10555 Northwest Freeway, Suite 120, Houston, TX 77092.

[FR Doc. 2016-02911 Filed 2-11-16; 8:45 am]

BILLING CODE 9110-12-P